DEPARTMENT OF ENERGY

Federal Energy Regulatory Commission

[Project No. 13318-003]

Swan Lake North Hydro LLC; Notice of Modification of Procedural Schedule

Take notice that the schedule for processing the following hydroelectric application has been modified.

a. Type of Application: Original License (Major Project).

b. Project No.: 13318-003.

c. Date Filed: October 28, 2015.

d. Applicant: Swan Lake North Hydro LLC.

e. Name of Project: Swan Lake North Pumped Storage Hydroelectric Project.

f. Location: The project would be located about 11 miles northeast of Klamath Falls, in Klamath County, Oregon. The project would occupy about 730 acres of federal lands administered by the Bureau of Land Management and the Bureau of Reclamation, state lands, and private lands.

g. Filed Pursuant to: Federal Power Act 16 U.S.C. 791(a)-825(r).

h. Applicant Contact: Erik Steimle, Rye Development LLC, 745 Atlantic Avenue, 8th Floor, Boston, MA 02111. Telephone: (503) 998-0230; Email: erik@ryedevelopment.com.

i. FERC Contact: Dianne Rodman at (202) 502-6077 or dianne.rodman@ferc.gov.

j. Procedural Schedule: The Commission's December 20, 2017 Notice of Application Ready for Environmental Analysis established August 2018 as the estimated date for issuing the Draft Environmental Impact Statement (EIS). The revised estimate for issuing the Draft EIS is now September 2018. As such, the application will be processed according to the following revised schedule. Revisions to the schedule may be made as appropriate. If a date falls on a weekend or holiday, the due date will be the following business day.

Milestone | Target date
Commission Issues Draft EIS | September 2018.
Comments on Draft EIS | November 2018.
Commission Issues Final EIS | January 2019.

Dated: July 13, 2018.
Kimberly D. Bose,
Secretary.

[FR Doc. 2018-15485 Filed 7-19-18; 8:45 am]

BILLING CODE 6717-01-P